DEPARTMENT OF TRANSPORTATION

Federal Aviation Administration

14 CFR Part 71

[Docket No. FAA-2023-0995; Airspace Docket No. 23-ASO-17]

RIN 2120-AA66

Amendment of Class E Airspace; Nashville, TN

AGENCY: Federal Aviation Administration (FAA), DOT.

ACTION: Notice of proposed rulemaking (NPRM).

SUMMARY: This action proposes to amend the Class E airspace designated as an extension to a Class C surface area and Class E airspace extending upward from 700 feet above the surface in Nashville, TN, as the result of a Class C Airspace modification and a biennial evaluation. This action would reduce the Class E airspace designated as an extension to the Nashville International Airport Class C airspace. This action would also extend the Class E airspace extending upward from 700 feet above the surface surrounding Music City Executive Airport, and reduce the Class E airspace extending upward from 700 feet above the surface surrounding Lebanon Municipal Airport, Murfreesboro Municipal Airport, and John C. Tune Airport.

DATES: Comments must be received on or before June 22, 2023.

ADDRESSES: Send comments identified by FAA Docket No. FAA-2023-0995 and Airspace Docket No. 23-ASO-17 using any of the following methods:

* Federal eRulemaking Portal: Go to www.regulations.gov and follow the online instructions for sending your comments electronically.

* Mail: Send comments to Docket Operations, M-30; U.S. Department of Transportation, 1200 New Jersey Avenue SE, Room W12-140, West Building Ground Floor, Washington, DC 20590-0001.

* Hand Delivery or Courier: Take comments to Docket Operations in Room W12-140 of the West Building Ground Floor at 1200 New Jersey Avenue SE, Washington, DC, between 9 a.m. and 5 p.m., Monday through Friday, except Federal holidays.

* Fax: Fax comments to Docket Operations at (202) 493-2251.

Docket: Background documents or comments received may be read at www.regulations.gov at any time. Follow the online instructions for accessing the docket or go to the Docket Operations in Room W12-140 of the West Building Ground Floor at 1200 New Jersey Avenue SE, Washington, DC, between 9 a.m. and 5 p.m., Monday through Friday, except Federal holidays.

FAA Order JO 7400.11G, Airspace Designations and Reporting Points, and subsequent amendments can be viewed online at www.faa.gov/air_traffic/publications/. You may also contact the Rules and Regulations Group, Office of Policy, Federal Aviation Administration, 800 Independence Avenue SW, Washington, DC 20591; telephone: (202) 267-8783.

FOR FURTHER INFORMATION CONTACT: Jennifer Ledford, Operations Support Group, Office of Policy, Eastern Service Center, Federal Aviation Administration, 1701 Columbia Avenue, College Park, GA 30337; Telephone: (404) 305-5946.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as controlled airspace is necessary for the safety and management of instrument flight rules (IFR) operations in the area.

Comments Invited

The FAA invites interested persons to participate in this rulemaking by submitting written comments, data, or views. Comments are specifically invited on the proposal's overall regulatory, aeronautical, economic, environmental, and energy-related aspects. The most helpful comments reference a specific portion of the proposal, explain the reason for any recommended change, and include supporting data. To ensure the docket does not contain duplicate comments, commenters should submit only once if comments are filed electronically, or commenters should send only one copy of written comments if comments are filed in writing.

The FAA will file in the docket all comments it receives and a report summarizing each substantive public contact with FAA personnel concerning this proposed rulemaking. Before acting on this proposal, the FAA will consider all comments it receives on or before the closing date for comments. The FAA will consider comments filed after the comment period has closed if it is possible without incurring expense or delay. The FAA may change this proposal in light of the comments it receives.

Privacy: In accordance with 5 U.S.C. 553(c), DOT solicits comments from the public to better inform its rulemaking process. DOT posts these comments, without editing, including any personal information the commenter provides, to www.regulations.gov, as described in the system of records notice (DOT/ALL-14 FDMS), which can be reviewed at www.dot.gov/privacy.

Availability of Rulemaking Documents

An electronic copy of this document may be downloaded through the internet at www.regulations.gov. Recently published rulemaking documents can be accessed through the FAA's web page at www.faa.gov/air_traffic/publications/airspace_amendments/.

You may review the public docket containing the proposal, any comments received and any final disposition in person in the Dockets Operations office (see ADDRESSES section for address, phone number, and hours of operations). An informal docket may also be examined during regular business hours at the office of the Eastern Service Center, Federal Aviation Administration, Room 350, 1701 Columbia Ave., College Park, GA 30337.

Incorporation by Reference

Class E airspace designations are published in paragraphs 6003 and 6005 of FAA Order JO 7400.11, incorporated by reference in 14 CFR 71.1 annually. This document proposes to amend the current version of that order, FAA Order JO 7400.11G, dated August 19, 2022 and effective September 15, 2022. These updates will be published in the next FAA Order JO 7400.11. That order is publicly available as listed in the ADDRESSES section of this document.

FAA Order JO 7400.11G lists Class A, B, C, D, and E airspace areas, air traffic service routes, and reporting points.

The Proposal

The FAA proposes to amend Class E airspace designated as an extension to the Class C surface area of Nashville International Airport by extending it from the 7-mile radius of the airport instead of the 5-mile radius, as a result of the new Class C structure. The FAA also proposes to amend the Class E airspace extending upward from 700 feet above the surface surrounding Music City Executive Airport by extending it from within a 7-mile radius to within a 7.5-mile radius of the airport, and by reducing the Class E airspace extending upward from 700 feet above the surface surrounding Lebanon Municipal Airport from within a 10-mile radius to within an 8-mile radius of the airport. The FAA also proposes to reduce the Class E airspace extending upward from 700 feet above the surface surrounding Murfreesboro Municipal Airport from within a 9-mile radius to within a 7.3-mile radius of the airport and 2.6 miles each side of the 182° bearing from the airport, extending from the 7.3-mile radius to 12 miles south of the airport. Additionally, the FAA proposes to reduce the airspace extending upward from 700 feet above the surface surrounding John C. Tune Airport from within an 8.6-mile radius to within an 8.1-mile radius of the airport.

The FAA proposes these changes to support IFR procedures as a result of a Class C Airspace modification and a biennial evaluation.

Regulatory Notices and Analyses

The FAA has determined that this proposed regulation only involves an established body of technical regulations for which frequent and routine amendments are necessary to keep them operationally current. It, therefore: (1) is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

Environmental Review

This proposal will be subject to an environmental analysis in accordance with FAA Order 1050.1F, “Environmental Impacts: Policies and Procedures” prior to any FAA final regulatory action.

List of Subjects in 14 CFR Part 71

Airspace, Incorporation by reference, Navigation (air).

The Proposed Amendment

In consideration of the foregoing, the Federal Aviation Administration proposes to a14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order JO 7400.11G, Airspace Designations and Reporting Points, dated August 19, 2022, and effective September 15, 2022, is amended as follows:

Paragraph 6003 Class E Airspace Area Designated as an Extension to a Class C Surface Area.

* * * * *

ASO TN E3 Nashville, TN

Nashville International Airport, TN

(Lat. 36°07′31″ N, long. 86°40′35″ W)

Nashville VORTAC

(Lat. 36°07′62″ N, long. 86°40′95″ W)

That airspace extending upward from the surface extending from the 7-mile radius of Nashville International Airport to an 11.7-mile radius southeast of the airport, from the Nashville VORTAC 161° radial clockwise to the 195° radial, and to an 8.9-mile radius southwest of the airport from the 195° radial of the VORTAC clockwise to the 231° radial of the VORTAC.

Paragraph 6005 Class E Airspace Areas Extending Upward from 700 Feet or More Above the Surface of the Earth.

* * * * *

ASO TN E5 Nashville, TN

Nashville International Airport, TN

(Lat 36°07′28″ N, long 86°40′41″ W)

Smyrna Airport

(Lat. 36°00′32″ N, long 86°31′12″ W)

Music City Executive Airport

(Lat 36°22′30″ N, long 86°24′30″ W)

Lebanon Municipal Airport

(Lat 36°11′25″ N, long 86°18′56″ W)

Murfreesboro Municipal Airport

(Lat 35°52′43″ N, long 86°22′39″ W)

John C. Tune Airport

(Lat 36°10′59″ N, long 86°53′11″ W)

Vanderbilt University Medical Center Hospital Point In Space Coordinates

(Lat 36°08′30″ N, long 86°48′6″ W)

That airspace extending upward from 700 feet above the surface within a 15-mile radius of Nashville International Airport, and within an 11.5-mile radius of Smyrna Airport, and within a 7.5-mile radius of Music City Executive Airport, and within an 8-mile radius of Lebanon Municipal Airport, and within a 7.3-mile radius of Murfreesboro Municipal Airport, and within 2.6 miles each side of the 182° bearing from the airport extending from the 7.3-mile radius to 12 miles south of the airport, and within an 8.1-mile radius of John C. Tune Airport, and that airspace within a 6-mile radius of the Point In Space serving Vanderbilt University Medical Center Hospital.

Issued in College Park, GA, on April 20, 2023.
Andreese C. Davis,
Manager, Airspace & Procedures Team South, Eastern Service Center, Air Traffic Organization.

[FR Doc. 2023-08760 Filed 5-5-23; 8:45 am]

BILLING CODE 4910-13-P